ENVIRONMENTAL PROTECTION AGENCY

[EPA-HQ-OPP-2008-0489;FRL-8396-5]

FIFRA Scientific Advisory Panel; Notice of Public Meeting; Correction

AGENCY: Environmental Protection Agency (EPA).

ACTION: Notice; correction.

SUMMARY: EPA issued a notice in the Federal Register of December 10, 2008, concerning a 3-day meeting of the FIFRA Scientific Advisory Panel to consider and review a set of scientific issues being considered by the Agency pertaining an Evaluation of the Resistance Risks from Using a Seed Mix Refuge with Pioneer's Optimum® AcreMax™ 1 Corn Rootworm-Protected Corn. This document is being issued to correct an error in the dates for the meeting.

FOR FURTHER INFORMATION CONTACT: Joseph E. Bailey, Designated Federal Official, Office of Science Coordination and Policy (7201M), Environmental Protection Agency, 1200 Pennsylvania Ave., NW., Washington, DC 20460-0001; telephone number: (202) 564-2045; e-mail address: bailey.joseph@epa.gov.

SUPPLEMENTARY INFORMATION:

I. General Information

A. Does this Action Apply to Me?

The Agency included in the original notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2008-0489. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Does this Correction Do?

FR Doc. E8-29114 published in the Federal Register of December 10, 2008 (73 FR 75099) (FRL-8392-7) is corrected as follows:

1. On page 75099, in the first column, under DATES, the first paragraph should read as follows:

The meeting will be held on Monday, February 23, 2009 from 1:30 p.m. to approximately 5 p.m.; on Tuesday, February 24, 2009 from 8:30 a.m. to approximately 5 p.m.; and on Wednesday, February 25, 2009 from 8:30 a.m. to approximately 12 noon (eastern time).

List of Subjects

Environmental protection, Pesticides and pests.

Dated: December 17, 2008.
Michael L. Goodis,
Acting Director, Office of Science Coordination and Policy.

[FR Doc. E8-30492 Filed 12-23-08; 8:45 am]

BILLING CODE 6560-50-S